FEDERAL ELECTION COMMISION

Sunshine Act Meeting

AGENCY: Federal Election Commission.

Previously announced date and time: Tuesday, May 14, 2002, 10 a.m., Meeting closed to the public; This Meeting was Canceled.

DATE and TIME: Tuesday, May 21, 2002 at 10:00a.m.

PLACE: 999 E. Street, NW., Washington, DC

STATUS: This meeting will be closed to the Public.

ITEMS TO BE DISCUSSED:

Compliance matters pursuant to U.S.C. 437g

Audits conducted pursuant to 2 U.S.C. 437g 438(b), and Title 26, U.S.C.

Matters concerning participation in civil actions or proceedings or arbitration.

Internal personnel rules and procedures or matters affecting a particular employee.

DATE and TIME: Thursday May 23, 2002 at 10 a.m.

PLACE: 999 E Street, NW., Washington, DC (Ninth Floor).

STATUS: This meeting will be open to the public.

ITEMS TO BE DISCUSSED:

Correction and Approval of Minutes.

Brokerage Loans and Lines of Credit Final Rules.

Administrative Matters.

PERSON TO CONTACT FOR INFORMATION: Mr. Ron Harris, Press Officer, Telephone: (202)694-1220.

Mary W. Dove,
Secretary of the Commission.

[FR Doc. 02-12493 Filed 5-14-02; 3:46 pm]

BILLING CODE 6715-01-M